DEPARTMENT OF HEALTH AND HUMAN SERVICES

National Committee on Vital and Health Statistics: Meeting Standards Subcommittee

Pursuant to the Federal Advisory Committee Act, the Department of Health and Human Services (HHS) announces the following advisory committee meeting.

Name: National Committee on Vital and Health Statistics (NCVHS) Subcommittee on Standards.

Time and Date:

June 17, 2013 1:00 p.m.-5:00 p.m. e.d.t.

June 18, 2013 8:30 a.m.-5:00 p.m. e.d.t.

Place: Centers for Disease Control and Prevention, National Center for Health Statistics, 3311 Toledo Road, Auditorium B & C, Hyattsville, Maryland 20782, (301) 458-4524.

Status: Open.

Purpose: The purpose of the meeting is to discuss the current status of implementation of various HIPAA-related standards, code sets, identifiers, and operating rules and identify and discuss ways to address any existing issues. The meetings will discuss whether there is a need to update any of the standards and operating rules to improve opportunities for uptake. The meetings will also provide an opportunity to discuss the status of industry planning for implementation of the next set of adopted operating rules. In addition, the Subcommittee will review industry status of preparation for adoption of ICD-10, with a focus on payment transition processes, the SNOMED-ICD-10 project and other mapping/cross-walking and preparatory/planning issues, as well as new areas of relationships between ICD-10 and other code sets, including the next version of the Diagnostic and Statistical Manual of Mental Disorders, 5th edition. Finally, the Subcommittee will discuss new uses of ICD-10 data by different stakeholders, including relationships to new payment models, big data/data analytics, population management, public health activities, research, quality measurement and improvement.

The Subcommittee is interested in learning about industry innovations underway in health information technology and standards as the convergence between clinical and administrative information exchanges occurs, and industry moves from a claim-centric, transaction-based administrative information infrastructure to a quality-oriented and outcomes-based reporting and information exchange.

Contact Person for More Information: Marjorie S. Greenberg, Executive Secretary, NCVHS, National Center for Health Statistics, Centers for Disease Control and Prevention, 3311 Toledo Road, Room 2402, Hyattsville, Maryland 20782, telephone (301) 458-4245 or Lorraine Doo, lead staff for the Standards Subcommittee, NCVHS, Centers for Medicare and Medicaid Services, Office of E-Health Standards and Services, 7500 Security Boulevard, Baltimore, Maryland, 21244, telephone (410) 786-6597. Program information as well as summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: May 29, 2013.
James Scanlon,
Deputy Assistant Secretary for Planning and Evaluation, Office of the Assistant Secretary for Planning and Evaluation.

[FR Doc. 2013-13476 Filed 6-5-13; 8:45 am]

BILLING CODE 4151-05-P